DEPARTMENT OF COMMERCE

International Trade Administration

[A-469-814]

Chlorinated Isocyanurates from Spain: Extension of Time Limit for Preliminary Results of Antidumping Duty Administrative Review

AGENCY: Import Administration, International Trade Administration, Department of Commerce.

EFFECTIVE DATE: (March 6, 2008.

FOR FURTHER INFORMATION CONTACT: Scott Lindsay, AD/CVD Operations, Office 6, Import Administration, International Trade Administration, U.S. Department of Commerce, 14th Street and Constitution Avenue, NW, Washington DC 20230; telephone: (202) 482-0780.

SUPPLEMENTARY INFORMATION:

Background

On July 2, 2007, the Department of Commerce (the Department) received a timely request for an administrative review of the antidumping duty order on chlorinated isocyanurates from Spain, with respect to Aragonesas Industrias y Energía S.A. (“Aragonesas”). On July 26, 2007, the Department published a notice of initiation of this administrative review for the period of June 1, 2006 through May 31, 2007. See Notice of Initiation of Antidumping and Countervailing Duty Administrative Reviews and Request for Revocation In Part, 72 FR 41057 (July 26, 2007).

Extension of Time Limit for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it is not practicable to complete the review within the foregoing time period.

The Department finds that it is not practicable to complete the preliminary results by the current deadline of March 3, 2008, because additional time is needed to analyze issues involving affiliations and collapsing. Therefore, in accordance with section 751(a)(3)(A) of the Act, the Department is extending the time limit for the preliminary results until no later than June 30, 2008, which is 365 days after the last day of the anniversary month of the date of publication of the order. Unless extended, the final results continue to be due 120 days after the publication of the preliminary results, pursuant to section 751(a)(3)(A) of the Act and section 351.213(h) of the Department's regulations.

This notice is issued and published in accordance to sections 751(a)(1) and 777(i)(1) of the Act.

Dated: February 15, 2008.
Stephen J. Claeys,
Deputy Assistant Secretary for Import Administration.

[FR Doc. E8-4397 Filed 3-5-08; 8:45 am]

BILLING CODE 3510-DR-S